FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 15, 2012.

A. Federal Reserve Bank of Minneapolis (Jacqueline G. King, Community Affairs Officer) 90 Hennepin Avenue, Minneapolis, Minnesota 55480-0291:

1. The Philip G. Amundson 2012 Irrevocable Grantor Trust, Sioux Falls, South Dakota; Matt Amundson, Trustee, Hendricks, Minnesota; Angie Mixner, Trustee, Sioux Falls, South Dakota; and Blair Folkens, Trustee, Brandson, South Dakota; all to join the Amundson Family Group, and thereby acquire voting shares of Beulah Bancorporation, Inc., Sioux Falls, South Dakota, and indirectly acquire voting shares of First Security Bank—West, Beulah, North Dakota, and Valley Bank and Trust, Mapleton, Iowa.

Board of Governors of the Federal Reserve System, October 26, 2012.
Robert deV. Frierson,
Secretary of the Board.

[FR Doc. 2012-26777 Filed 10-30-12; 8:45 am]

BILLING CODE 6210-01-P